DEPARTMENT OF HEALTH AND HUMAN SERVICES

Centers for Medicare & Medicaid Services

Privacy Act of 1974; System of Records

AGENCY: Centers for Medicare & Medicaid Services (CMS), Department of Health and Human Services (HHS).

ACTION: Notice of withdrawal.

SUMMARY: The Department of Health and Human Services (HHS), Centers for Medicare & Medicaid Services (CMS), is withdrawing the notice published on September 17, 2018 to modify system of records No. 09-70-0541, titled “Medicaid Statistical Information System (MSIS).” The notice was prematurely published. A revised version will be published at a later date.

DATES: The notice of withdrawal is applicable October 10, 2018.

ADDRESSES: Any comments should be submitted by mail or email to: CMS Privacy Act Officer, Division of Security, Privacy Policy & Governance, Information Security & Privacy Group, Office of Information Technology, CMS, Location N1-14-56, 7500 Security Blvd., Baltimore, MD 21244-1870, or walter.stone@cms.hhs.gov.

FOR FURTHER INFORMATION CONTACT: General questions may be submitted by phone, mail or email to Barbara Demopulos, (phone 410-786-6340), CMS Privacy Advisor, Division of Security, Privacy Policy & Governance, Information Security & Privacy Group, Office of Information Technology, CMS, Location N1-14-40, 7500 Security Blvd., Baltimore, MD 21244-1870, or Barbara.demopulos@cms.hhs.gov.

SUPPLEMENTARY INFORMATION: A notice establishing or significantly modifying a system of records is required by subsection (r) of the Privacy Act (5 U.S.C. 552a(r)) to be reported to the Committee on Government Operations of the House of Representatives, the Committee on Governmental Affairs of the Senate, and the Office of Management and Budget (OMB) in advance of publication in the Federal Register, in order to permit an evaluation of the potential effect of the proposal on the privacy and other rights of individuals. The notice published at 83 FR 46951 (Sept. 17, 2018) did not comply with this requirement and is therefore withdrawn, as prematurely published. A revised version will be published at a later date and in compliance with 5 U.S.C. 552a(r) and section 7 of OMB Circular A-108, “Federal Agency Responsibilities for Review, Reporting, and Publication under the Privacy Act,” 81 FR 94424 (Dec. 23, 2016).

Barbara Demopulos,
CMS Privacy Advisor, Division of Security, Privacy Policy and Governance Information Security and Privacy Group, Office of Information Technology, Centers for Medicare & Medicaid Services.

[FR Doc. 2018-21899 Filed 10-9-18; 8:45 am]

BILLING CODE 4120-03-P